Title 3—

The President

Memorandum of August 9, 2022

Delegation of Authority Under Sections 102 and 106 of the CHIPS Act of 2022

Memorandum for the Secretary of State[,] the Secretary of Defense[,] the Secretary of Commerce[, and] the Director of the National Science Foundation

By the authority vested in me as President by the Constitution and the laws of the United States of America, including section 301 of title 3, United States Code, I hereby order as follows:

Section 1. (a) I hereby delegate to the Secretary of Commerce the authority to submit to the Congress the cost estimates required by sections 102(a)(4)(A)(i) and 106(c)(1)(A) of the CHIPS Act of 2022 (division A of H.R. 4346) (the “Act”).

(b) I hereby delegate to the Secretary of Defense the authority to submit to the Congress the cost estimate required by section 102(b)(3)(A)(i) of the Act.

(c) I hereby delegate to the Secretary of State the authority to submit to the Congress the cost estimate required by section 102(c)(3)(A)(i) of the Act.

(d) I hereby delegate to the Director of the National Science Foundation the authority to submit to the Congress the cost estimate required by section 102(d)(3)(A)(i) of the Act.

Sec. 2. The Secretary of Commerce is authorized and directed to publish this memorandum in the Federal Register.

THE WHITE HOUSE,

Washington, August 9, 2022

[FR Doc. 2022-17672

Filed 8-12-22; 11:15 am]

Billing code 3510-07-P